FEDERAL MARITIME COMMISSION

Notice of Agreement Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of Agreements at (202) 523-5793 or tradeanalysis@fmc.gov.

Agreement No.: 201157-009.

Agreement Name: USMX-ILA Master Contract Memorandum of Settlement.

Parties: International Longshoremen's Association, AFL-CIO and United States Maritime Alliance, Ltd.

Filing Party: Jim Campbell, The Lambos Firm LLP.

Synopsis: The Amendment extends the term of the 2018-2024 USMX-ILA Master Contract from October 1, 2023, through and including January 15, 2025.

Proposed Effective Date: 10/8/2024.

Location: https://www2.fmc.gov/FMC.Agreements.Web/Public/AgreementHistory/8153.

Dated: October 11, 2024.
Alanna Beck,
Federal Register Alternate Liaison Officer.

[FR Doc. 2024-23977 Filed 10-16-24; 8:45 am]

BILLING CODE 6730-02-P